DEPARTMENT OF COMMERCE

National Oceanic and Atmospheric Administration

[I.D. 030404B]

Strategic Plan for Fisheries Research (2004)

AGENCY: National Marine Fisheries Service (NMFS), National Oceanic and Atmospheric Administration (NOAA), Commerce.

ACTION: Notice of availability.

SUMMARY: The NMFS announces the availability of the Strategic Plan for Fisheries Research (2004). The Magnuson-Stevens Fishery Conservation and Management Act (MSFCMA) requires the Secretary of Commerce to develop, triennially, a strategic plan for fisheries research for the subsequent 5 years.

ADDRESSES: Requests for copies of the NMFS Strategic Plan for Fisheries Research (2004) should be directed to Mark Chandler, Research, Analysis, and Coordination Division, Office of Science and Technology, NMFS, NOAA, 1315 East-West Highway, Silver Spring, MD 20910. Phone: (301) 713-2363. Fax: (301) 713-1875.

FOR FURTHER INFORMATION CONTACT: Mark Chandler at 301-713-2363 ext. 152. e-mail: Mark.Chandler@noaa.gov

SUPPLEMENTARY INFORMATION:

Electronic Access

The NMFS Strategic Plan for Fisheries Research (2004) may be viewed in its entirety on the World Wide Web at http://www.st.nmfs.gov/st2/index.html. Section 404 of the MSFCMA requires the Secretary of Commerce to publish in the Federal Register a strategic plan for fisheries research for the 5 years immediately following its publication. The MSFCMA requires that the plan address four major areas of research: (1) Research to support fishery conservation and management; (2) conservation engineering research; (3) research on the fisheries; and (4) information management research. The MSFCMA specifies that the plan shall contain a limited number of priority objectives for each of these research areas; indicate goals and timetables; provide a role for commercial fishermen in such research; provide for collection and dissemination of complete and accurate information concerning fishing activities; and be developed in cooperation with the Councils and affected states.

This plan is based upon and entirely consistent with the overarching NOAA Fisheries Strategic Plan (NFSP) recently released in July 2003. The objectives under each goal in the NMFS Strategic Plan for Fisheries Research (2004) correspond to strategies in the NFSP.

The scope of the NMFS Strategic Plan for Fisheries Research (2004) is solely fisheries research to support the MSFCMA. It does not include the regulatory and enforcement components of the NMFS' mission. The NMFS currently conducts a comprehensive program of fisheries research and involves industry and others interested in fisheries in planning and implementing its objectives.

Dated: March 4, 2004.
William Fox, Jr.,
Director, Office of Science and Technology, National Marine Fisheries Service.

[FR Doc. 04-5294 Filed 3-8-04; 8:45 am]

BILLING CODE 3510-22-S